ENVIRONMENTAL PROTECTION AGENCY

[FRL-9912-28-Region-6]

Clean Water Act Section 303(d): Withdrawal of One Total Maximum Daily Load

AGENCY: U.S. Environmental Protection Agency.

ACTION: Notice of Withdrawal of One Total Maximum Daily Load.

SUMMARY: The U.S. Environmental Protection Agency (EPA) hereby issues notice of the withdrawal of one Total Maximum Daily Load (TMDL) for lead, as found in the document titled “TMDLs for Lead and Siltation/Turbidity for Big Creek near Sheridan, Arkansas.” The TMDL was established by the EPA in March of 2008. This withdrawal action will not affect the TMDLs for Siltation/Turbidity established in the same TMDL document.

The lead TMDL is being withdrawn in this unique circumstance based on uncertainty in the representativeness of the data associated with the original listing for lead in Big Creek near Sheridan (reach 08040203-904) and, therefore, the questionable need for the TMDL.

SUPPLEMENTARY INFORMATION: The TMDLs were developed under EPA Contract Number 68-C-02-108. The Federal Register (FR) notice of availability, seeking public comments on the draft TMDLs, was published on December 17, 2007 (72 FR 71409). Public comments were received by January 16, 2008, and a response to each comment was provided. The FR notice of availability for the final TMDLs was published on August 14, 2008 (see 73 FR 47596). The FR notice seeking public comments on the proposed withdrawal for the lead TMDL for reach 08040203-904 was published on April 21, 2014. The comment period ended on May 21, 2014, and the EPA did not receive any adverse comments relating to the proposed withdrawal action.

FOR FURTHER INFORMATION CONTACT: Evelyn Rosborough, Water Quality Protection Division, U.S. EPA Region 6, 1445 Ross Avenue, Dallas, TX 75202-2733, (214) 665-7515.

Dated: June 5, 2014.
William K. Honker,
Director, Water Quality Protection Division, EPA Region 6.

[FR Doc. 2014-14118 Filed 6-16-14; 8:45 am]

BILLING CODE 6560-50-P